DEPARTMENT OF ENERGY

Federal Energy Regulatory Commission

Combined Notice of Filings #1

Take notice that the Commission received the following electric rate filings:

Docket Numbers: ER10-1581-003.

Applicants: Long Beach Peakers LLC.

Description: Long Beach Peakers LLC submits tariff filing per 35: LBP—Amendment to Market-Based Rate Tariff 03072011 to be effective 9/8/2010.

Filed Date: 03/07/2011.

Accession Number: 20110307-5076.

Comment Date: 5 p.m. Eastern Time on Monday, March 28, 2011.

Docket Numbers: ER10-2474-001; ER10-2475-001.

Applicants: Sierra Pacific Power Company, Nevada Power Company.

Description: Supplemental Information of Sierra Pacific Power Company, et al.

Filed Date: 03/07/2011.

Accession Number: 20110307-5175.

Comment Date: 5 p.m. Eastern Time on Monday, March 28, 2011.

Docket Numbers: ER11-3024-000.

Applicants: Puget Sound Energy, Inc.

Description: Puget Sound Energy, Inc. submits tariff filing per 35: Vantage LGIA 03/07/2011 to be effective 3/7/2011.

Filed Date: 03/07/2011.

Accession Number: 20110307-5077

Comment Date: 5 p.m. Eastern Time on Monday, March 28, 2011.

Docket Numbers: ER11-3025-000.

Applicants: Southwest Power Pool, Inc.

Description: Southwest Power Pool, Inc. submits tariff filing per 35.13(a)(2)(iii: Submission of Notice of Cancellation of LGIA 1677R2 Taloga Wind, LLC to be effective 1/31/2011.

Filed Date: 03/07/2011.

Accession Number: 20110307-5112.

Comment Date: 5 p.m. Eastern Time on Monday, March 28, 2011.

Docket Numbers: ER11-3026-000.

Applicants: Aspen Merchant Energy, LP.

Description: Aspen Merchant Energy, LP submits tariff filing per 35.12: Aspen Merchant Energy, LP FERC Electric Market-Based Rate Tariff to be effective 3/8/2011.

Filed Date: 03/07/2011.

Accession Number: 20110307-5120.

Comment Date: 5 p.m. Eastern Time on Monday, March 28, 2011.

Docket Numbers: ER11-3027-000.

Applicants: Virginia Electric and Power Company, Dominion Energy Marketing, Inc., Dominion Nuclear Connecticut, Inc., Dominion Energy Kewaunee, Inc., Dominion Energy Brayton Point, LLC, Dominion Energy Manchester Street, Inc., Dominion Energy New England, Inc., Dominion Energy Salem Harbor, LLC, Dominion Retail, Inc., Elwood Energy, LLC, Fairless Energy, LLC, Kincaid Generation, L.L.C., NedPower Mount Storm, LLC, State Line Energy, L.L.C., Fowler Ridge Wind Farm LLC.

Description: Request of Virginia Electric And Power Company And Its Market-Regulated Power Sales Affiliates For Waivers Of Certain Affiliate Restrictions Requirements.

Filed Date: 03/07/2011.

Accession Number: 20110307-5138.

Comment Date: 5 p.m. Eastern Time on Monday, March 28, 2011.

Docket Numbers: ER11-3028-000.

Applicants: BBPC, LLC.

Description: BBPC, LLC submits tariff filing per 35.12: BBPC LLC MBR Tariff to be effective 5/6/2011.

Filed Date: 03/07/2011.

Accession Number: 20110307-5166.

Comment Date: 5 p.m. Eastern Time on Monday, March 28, 2011.

Docket Numbers: ER11-3029-000.

Applicants: Southwest Power Pool, Inc.

Description: Southwest Power Pool, Inc.'s Submission of Notice of Cancellation of Large Generator Interconnection Agreement.

Filed Date: 03/07/2011.

Accession Number: 20110307-5174.

Comment Date: 5 p.m. Eastern Time on Monday, March 28, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Dated: March 8, 2011.
Nathaniel J. Davis, Sr.,
Deputy Secretary.

[FR Doc. 2011-5896 Filed 3-14-11; 8:45 am]

BILLING CODE 6717-01-P